DEPARTMENT OF ENERGY

Office of Energy Efficiency and Renewable Energy

Revision of a Currently Approved Collection

AGENCY: Office of Energy Efficiency and Renewable Energy, U.S. Department of Energy.

ACTION: Notice and request for OMB review and comment.

SUMMARY: The Department of Energy (DOE) has submitted to the Office of Management and Budget (OMB) for clearance, a proposal for collection of information under the provisions of the Paperwork Reduction Act of 1995. The proposed collection will be used to report the progress of participants in the DOE Better Buildings programs, including the Better Buildings Challenge, Better Buildings, Better Plants program, and the Better Buildings Alliance. These voluntary programs are intended to drive greater energy efficiency in the commercial and industrial marketplace to create cost savings and jobs. This will be accomplished by highlighting the ways participants overcome market barriers and persistent obstacles with replicable, marketplace solutions. These programs will showcase real solutions and partner with industry leaders to better understand policy and technical opportunities. Since the published 60-Day Notice and request for comments on April 11, 2013, Vol. 78, No. 70, page 21602, there are noted changes to the following supplemental information items: (6) Annual Estimated Number of Total Responses are reduced from 3,178 to 2,333; (7) Annual Estimated Number of Burden Hours are reduced from 5,077 to 4,651.89; and (8) Annual Estimated Reporting and Recordkeeping Cost Burden is reduced from$194,926 to $183,610.

DATES: Comments regarding this collection must be received on or before December 12, 2013. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503.

And to Nancy Gonzalez, EE-2F/Forrestal Building, 1000 Independence Avenue SW., Washington, DC 20585 or by fax at 202-586-5234 or by email at nancy.gonzalez@ee.doe.gov.

FOR FURTHER INFORMATION CONTACT: Requests for additional information or copies of the information collection instrument and instructions should be directed to Nancy Gonzalez, EE-2F/Forrestal Building, 1000 Independence Avenue SW., Washington, DC 20585 or by fax at 202-586-5234 or by email at nancy.gonzalez@ee.doe.gov.

SUPPLEMENTARY INFORMATION: This information collection request contains: (1) OMB No.1910-5141; (2) Information Collection Request Title: Better Buildings Challenge, Better Buildings Alliance and the Better Buildings, Better Plants Voluntary Pledge Program; (3) Type of Request: Amendment; (4) Purpose: The collected information is being amended to be used to report the progress of participants in the Better Buildings Alliance, as well as additional information for the Better Buildings, Better Plants program. The collection is being amended to account for an increase in the number of respondents; (5) Annual Estimated Number of Total Respondents: 550; (6) Annual Estimated Number of Total Responses: 2,333; (7) Annual Estimated Number of Burden Hours: 4,651.89; (8) Annual Estimated Reporting and Recordkeeping Cost Burden: $183,610.

Statutory Authority: Section 421 of the Energy Independence and Security Act of 2007 (42 U.S.C. 17081); Section 911 of the Energy Policy Act of 2005, as amended (42 U.S.C. 16191).

Issued in Washington, DC on November 1, 2013.
Maria Vargas,
Director, Better Buildings Challenge, Buildings Technologies Office, Office of Energy Efficiency and Renewable Energy.

[FR Doc. 2013-26984 Filed 11-8-13; 8:45 am]

BILLING CODE 6450-01-P